DEPARTMENT OF THE TREASURY

Submission for OMB Review; Comment Request

September 20, 2010

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before October 25, 2010 to be assured of consideration.

Internal Revenue Service (IRS)

OMB Number: 1545-0015.

Type of Review: Revision of a currently approved collection.

Title: United States Estate (and Generation-Skipping Transfer) Tax Return.

Form: 706 and schedules.

Abstract: Form 706 is used by executors to report and compute the Federal Estate Tax imposed by IRC section 2001 and the Federal GST tax imposed by IRC section 2601. IRS uses the information to enforce these taxes and to verify that the tax has been properly computed.

Respondents: Individuals or households.

Estimated Total Burden Hours: 2,046,350 hours.

OMB Number: 1545-0026.

Type of Review: Extension without change to a currently approved collection.

Title: Return by a U.S. Transferor of Property to a Foreign Corporation.

Form: 926.

Abstract: Form 926 is filed by any U.S. person who transfers certain tangible or intangible property to a foreign corporation to report information required by section 6038B.

Respondents: Private Sector: Businesses or other for-profits.

Estimated Total Burden Hours: 29,902 hours.

OMB Number: 1545-1165.

Type of Review: Extension without change to a currently approved collection.

Title: Tax Information Authorization.

Form: 8821.

Abstract: Form 8821 is used to appoint someone to receive or inspect certain tax information. Data is used to identify appointees and to ensure that confidential information is not divulged to unauthorized persons.

Respondents: Individuals or households.

Estimated Total Burden Hours: 140,300 hours.

OMB Number: 1545-2055.

Type of Review: Extension without change to a currently approved collection.

Title: Energy Efficient Appliance Credit.

Form: 8909.

Abstract: Form 8909, Energy Efficient Appliance Credit, was developed to carry out the provisions of Code section 45M. This section was added by section 1334 of the Energy Policy Act of 2005 (Pub. L. 109-58). This form provides a means for the eligible manufacturer/taxpayer to compute the amount of, and claim, the credit.

Respondents: Private Sector: Not-for-profit institutions.

Estimated Total Burden Hours: 131 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-23991 Filed 9-23-10; 8:45 am]

BILLING CODE 4830-01-P